CONSUMER PRODUCT SAFETY COMMISSION

Sunshine Act Meetings

TIME AND DATE: Thursday, August 25, 2022; 10:00 a.m.* Eastern Daylight Time (New York, GMT-04:00).

PLACE: https://cpsc.webex.com/cpsc/onstage/g.php?MTID=e332cfaba4d2a326fbd2dec4fbaea1d98.

STATUS: Commission meeting—Open to the public.

MATTER TO BE CONSIDERED: Public briefing on Magnets final rule.

CONTACT PERSON FOR MORE INFORMATION: Abioye E. Mosheim, Acting Secretary, Division of the Secretariat, Office of the General Counsel, U.S. Consumer Product Safety Commission, 4330 East West Highway, Bethesda, MD 20814, (301) 504-7479.

* The Commission unanimously determined by recorded vote that Agency business requires calling the meeting without seven calendar days advance public notice.

Abioye E. Mosheim,
Acting Secretary.

[FR Doc. 2022-18489 Filed 8-24-22; 11:15 am]

BILLING CODE 6355-01-P